DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on February 22, 2012 from 9 a.m. to 3 p.m. at the Okanogan-Wenatchee National Forest Headquarters Office, 215 Melody Lane, Wenatchee, WA. During this meeting information will be shared about Washington State Discover Pass, wolf management in Washington State and Forest Plan Revision update and public response. All Eastern Washington Cascades and Yakima Province Advisory Committee meetings are open to the public.

FOR FURTHER INFORMATION CONTACT: Direct questions regarding this meeting to Clint Kyhl, Designated Federal Official, USDA, Okanogan-Wenatchee National Forest, 215 Melody Lane, Wenatchee, Washington 98801, phone (509) 664-9200.

Dated: January 20, 2012.
Clinton Kyhl,
Designated Federal Official, Okanogan-Wenatchee National Forest.

[FR Doc. 2012-1816 Filed 1-26-12; 8:45 am]

BILLING CODE 3410-11-P